CORPORATION FOR NATIONAL AND COMMUNITY SERVICE

NCCC Advisory Board Meeting

The Corporation for National and Community Service gives notice under Public Law 92-463 (Federal Advisory Committee Act) that it will hold a meeting of the AmeriCorps National Civilian Community Corps (NCCC) Advisory Board. The Board advises the Director of the NCCC concerning the administration of the program and assists in the development and administration of the Corps:

Date and Time: Thursday, January 19, 2006, 9 a.m.-2 p.m.

Place: Corporation for National and Community Service, 1201 New York Avenue, NW., 8th Floor, Room 8312, Washington, DC 20525.

Status: Open.

Matters to be Considered: The Board will discuss a proposal that establishes two new committees of the Advisory Board, which should result in the Board being in a position to better support and advance the overall goals and objectives of the NCCC. These two committees will be concerned primarily with Board development and strategic initiatives, respectively.

Accommodations: Upon request, meeting notices will be made available in alternative formats to accommodate visual and hearing impairments. Anyone who needs an interpreter or other accommodation should notify the Corporation's contact person by 5 p.m. Friday, January 13, 2006.

For Further Information Contact: Ms. Erma Hodge, Executive Assistant, NCCC, Corporation for National and Community Service, 10th Floor, 202-606-6696. E-mail: ehodge@cns.gov.

Dated: January 4, 2006.
Merlene Mazyck,
Director, National Civilian Community Corps.

[FR Doc. E6-92 Filed 1-9-06; 8:45 am]

BILLING CODE 6050-$$-P